NUCLEAR REGULATORY COMMISSION

[Docket Nos. 50-266, 50-301, 72-005; License Nos. DPR-24, DPR-27]

Wisconsin Electric Power Company (Point Beach Nuclear Plant, Units 1 and 2); Order Approving Transfer of Operating Authority and Conforming Amendments

I.

Wisconsin Electric Power Company (WEPCo or the licensee) is the holder of Facility Operating Licenses Nos. DPR-24 and DPR-27, which authorize operation of the Point Beach Nuclear Plant, Units 1 and 2 (Point Beach or the facility). The facility is located at the licensee's site in the town of Two Creeks, Manitowac County, Wisconsin. The licenses authorize WEPCo to possess, use, and operate Point Beach.

II.

By application dated November 24, 1999, as supplemented January 31, 2000, the Commission was informed that WEPCo entered into operating service agreements with Nuclear Management Company, LLC (NMC). The initial application and the supplement are hereinafter referred to as “the application,” unless otherwise indicated. Under the proposed transaction, NMC will be designated as the licensee authorized to use and operate Point Beach in accordance with the terms and conditions of the licenses. The transaction involves no change in plant ownership. The licensee requested approval of the proposed transfer of operating authority under the Point Beach facility operating licenses to NMC. The application also requested conforming amendments to reflect the transfer. The proposed amendments would add NMC to the licenses and reflect that NMC is exclusively authorized to use and operate Point Beach. As a result of the transfer of licenses with respect to operating authority thereunder and conforming license amendments, NMC will also become and act as the general licensee for the Independent Spent Fuel Storage Installation (ISFSI) at Point Beach pursuant to 10 CFR 72.210.

According to the application for approval filed by WEPCo, NMC would become the licensee authorized to use and operate Point Beach following approval of the proposed license transfers. NMC will assume exclusive responsibility for the operation and maintenance of Point Beach. Ownership of Point Beach will not be affected by the proposed transfer of operating authority. WEPCo will retain its current ownership interest. NMC will not own any portion of Point Beach. Likewise, WEPCo's entitlement to capacity and energy from Point Beach will not be affected by the transfer of operating authority. No physical changes to the Point Beach facility were proposed in the application.

Approval of the transfer of operating authority under the facility operating licenses and conforming license amendments was requested by WEPCo pursuant to 10 CFR 50.80 and 50.90. Notice of the application for approval and an opportunity for a hearing was published in the Federal Register on February 4, 2000 (65 FR 5705). No hearing requests or written comments were received.

Pursuant to 10 CFR 50.80, no license, or any right thereunder, shall be transferred, directly or indirectly, through transfer or control of the license, unless the Commission shall give its consent in writing. Upon review of the information in application by WEPCo, and other information before the Commission, and relying upon the representations and agreements contained in the application, the NRC staff has determined that NMC is qualified to hold the operating authority under the licenses, and that the transfer of the operating authority under the licenses to NMC is otherwise consistent with applicable provisions of law, regulations, and orders issued by the Commission, subject to the conditions set forth below. The NRC staff has further found that the application for the proposed license amendments complies with the standards and requirements of the Atomic Energy Act of 1954, as amended, and the Commission's rules and regulations set forth in 10 CFR Chapter 1; the facility will operate in conformity with the application, the provisions of the Act, and the rules and regulations of the Commission; there is reasonable assurance that the activities authorized by the proposed license amendments can be conducted without endangering the health and safety of the public and that such activities will be conducted in compliance with the Commission's regulations; the issuance of the proposed license amendments will be inimical to the common defense and security or the health and safety of the public; and the issuance of the proposed amendments will be in accordance with 10 CFR Part 51 of the Commission's regulations and all applicable requirements have been satisfied. The foregoing findings are supported by a safety evaluation dated May 15, 2000.

III.

Accordingly, pursuant to Sections 161b, 161i, and 184 of the Atomic Energy Act of 1954, as amended, 42 U.S.C. 2201(b), 2201(i), and 2234, and 10 CFR 50.80, it is hereby ordered that the transfer of operating authority under the licenses, as described herein, to NMC is approved, subject to the following conditions:

(1) After receipt of all required regulatory approvals of the transfer of operating authority to NMC, WEPCo and NMC shall inform the Director of the Office of Nuclear Reactor Regulation in writing of such receipt within 5 business days, and of the date of the closing of the transfer no later than 7 business days prior to the date of closing. If the transfer is not completed by April 1, 2001, this Order shall become null and void, provided, however, upon written application and for good cause shown, such date may in writing be extended.

(2) NMC shall, prior to completion of the transfer of operating authority for Point Beach, provide the Director of the Office of Nuclear Reactor Regulation satisfactory documentary evidence that NMC has obtained the appropriate amount of insurance required of licensees under 10 CFR Part 140 of the Commission's regulations.

It is further ordered that, consistent with 10 CFR 2.1315(b), license amendments that make changes, as indicated in Enclosure 2 to the cover letter forwarding this Order, to conform the licenses to reflect the subject transfer of operating authority is approved. The amendments shall be issued and made effective at the time the proposed transfer is completed.

This Order is effective upon issuance.

For further details with respect to this action, see the initial application dated November 24, 1999, and supplement dated January 31, 2000, and the safety evaluation dated May 15, 2000, which are available for public inspection at the Commission's Public Document Room, the Gelman Building, 2120 L Street, NW., Washington, DC, and accessible electronically through the ADAMS Public Electronic Reading Room link at the NRC Web site (http://www.nrc.gov).

Dated at Rockville, Maryland, this 15th day of May 2000.
For the Nuclear Regulatory Commission.
Brian W. Sheron,
Acting Director, Office of Nuclear Reactor Regulation.

[FR Doc. 00-12614 Filed 5-18-00; 8:45 am]

BILLING CODE 7510-01-M